DEPARTMENT OF ENERGY

10 CFR Parts 429 and 431

[EERE-2020-BT-TP-0032]

RIN 1904-AE53

Energy Conservation Program: Test Procedure for Commercial and Industrial Pumps; Correction

AGENCY: Office of Energy Efficiency and Renewable Energy, Department of Energy.

ACTION: Final rule; correction.

SUMMARY: The U.S. Department of Energy (“DOE”) is correcting a final rule that appeared in the Federal Register on March 24, 2023. That document amended test procedures for commercial and industrial pumps. This document corrects a numbering and amendatory error in that final rule.

DATES: Effective April 24, 2023.

FOR FURTHER INFORMATION CONTACT:

Mr. Jeremy Dommu, U.S. Department of Energy, Office of Energy Efficiency and Renewable Energy, Building Technologies Office, EE-2J, 1000 Independence Avenue SW, Washington, DC 20585-0121. Telephone: (202) 586-9870. Email: ApplianceStandardsQuestions@ee.doe.gov.

Mr. Nolan Brickwood, U.S. Department of Energy, Office of the General Counsel, GC-33, 1000 Independence Avenue SW, Washington, DC 20585-0121. Telephone: (202) 586-9870. Email: Nolan.Brickwood@hq.doe.gov.

SUPPLEMENTARY INFORMATION:

I. Background

DOE published a final rule in the Federal Register on March 24, 2023 (March 2023 final rule), amending the test procedure for commercial and industrial pumps. 88 FR 17934. This correction addresses numbering errors in that final rule.

The amendatory instructions in the March 2023 final rule amended § 431.463 by revising the materials incorporated by reference. The final rule erroneously used duplicative numbering in this section by adding two paragraphs numbered as (g)(3). Further, the amendatory instructions for appendix A to subpart Y of part 431 omitted adding new paragraph E.1.2.1.2.3 to Section III and the amendatory instructions for § 429.59 omitted adding paragraph (a)(2)(iv).

II. Need for Correction

As published, the regulatory text in the March 2023 final rule may result in confusion due to incorrect section references and missing amendatory instructions. Because this final rule would simply correct errors in the text without making substantive changes in the March 2023 final rule, the changes addressed in this document are technical in nature.

III. Procedural Issues and Regulatory Review

DOE has concluded that the determinations made pursuant to the various procedural requirements applicable to the March 2023 final rule remain unchanged for this final rule technical correction. These determinations are set forth in the March 2023 final rule. 88 FR 17968-17972.

Pursuant to the Administrative Procedure Act, 5 U.S.C. 553(b), DOE determines that notice and prior opportunity for comment on this rule are unnecessary and contrary to the public interest. Neither the errors nor the corrections in this document affect the substance of the March 2023 final rule or any of the conclusions reached in support of the final rule. For these reasons, DOE also determines that there is good cause to waive the 30-day delay in effective date in 5 U.S.C. 553(d).

Signing Authority

This document of the Department of Energy was signed on April 18, 2023, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Correction

In FR Doc. 2023-05635, appearing on page 17934 in the Federal Register of Wednesday, March 24, 2023, the following corrections are made:

§ 429.59 [Corrected]

1. On page 17973, in the first column, revise amendatory instruction 2.c to read “Adding new paragraphs (a)(2)(iv) and (a)(3).;”

§ 431.463 [Corrected]

2. On page 17978, in the first column, redesignate the second instance of paragraph (g)(3) as (g)(4).

§ 431.464 [Corrected]

3. On page 17978, in the third column, revise amendatory instruction 8.d to read “In section III, revising paragraphs A through D, E.1.2.1.2, E.1.2.1.2.1., E.1.2.1.2.2, and E.1.2.1.2.3.;”

Signed in Washington, DC, on April 18, 2023.
Treena V. Garrett,
Federal Register Liaison Officer, U.S. Department of Energy.

[FR Doc. 2023-08483 Filed 4-20-23; 8:45 am]

BILLING CODE 6450-01-P